Title 3—

The President

Memorandum of January 6, 2011

Disestablishment of United States Joint Forces Command

Memorandum for the Secretary of Defense

Pursuant to my authority as Commander in Chief and under 10 U.S.C. 161, I hereby accept the recommendations of the Secretary of Defense and Chairman of the Joint Chiefs of Staff and approve the disestablishment of United States Joint Forces Command, effective on a date to be determined by the Secretary of Defense. I direct this action be reflected in the 2010 Unified Command Plan.

Pursuant to 10 U.S.C. 161(b)(2) and 3 U.S.C. 301, you are directed to notify the Congress on my behalf.

You are authorized and directed to publish this memorandum in the Federal Register.

THE WHITE HOUSE,

Washington, January 6, 2011

[FR Doc. 2011-590

Filed 1-10-11; 11:15 am]

Billing code 5000-04-P